DEPARTMENT OF TRANSPORTATION

Federal Aviation Administration

DEPARTMENT OF THE INTERIOR

National Park Service

Notice of Establishment of a National Parks Overflight Advisory Group

AGENCIES: Federal Aviation Administration, DOT; and National Park Service, Interior.

ACTION: Notice.

SUMMARY: The National Park Service (NPS) and Federal Aviation Administration (FAA) in accordance with the National Parks Air Tour Management Act of 2000, announce the establishment of the National Parks Overflights Advisory Group (NPOAG). The NPOAG is formed to provide continuing advice and counsel with respect to commercial air tour operations over and near national parks. This notice informs the public of the establishment of the advisory group and delineates the nomination procedures.

DATES: The National Parks Overflights Advisory Group will be established on April 5, 2001.

FOR FURTHER INFORMATION CONTACT: Howard Nesbitt, Flight Standards Service, Federal Aviation Administration, 800 Independence Ave., SW., Washington, DC 20591, telephone: (202) 493-4981, or Marvin Jensen, Soundscapes Office, National Park Service, 1201 Oak Ridge Drive, Suite 200, Ft. Collins, Colorado 80525, telephone: (970) 225-3563. Persons interested in serving on the advisory group should contact Mr. Nesbitt or Mr. Jensen on or before April 2, 2001.

SUPPLEMENTARY INFORMATION:

Background

The National Parks Air Tour Management Act of 2000 (the Act) was enacted on April 5, 2000, as Public Law 106-181 (Pub. L. 106-181). The Act applies to “commercial air tour operations” occurring over a unit of the national park system or tribal lands within or abutting a national park. A commercial air tour operation is defined in the Act as a “flight conducted for compensation or hire in a powered aircraft where a purpose of the flight is sightseeing over a national park, within ½ mile outside the boundary of any national park, or over tribal lands, during which the aircraft flies—(i) below a minimum altitude, determined by the Administrator in cooperation with the Director, above ground level (except solely for purposes of takeoff or landing, or necessary for safe operation of aircraft as determined under the rules and regulations of the Federal Aviation Administration requiring the pilot-in-command to take action to ensure the safe operation of the aircraft) or (ii) less than 1 mile laterally from any geographic feature within the park (unless more than ½ mile outside the boundary).” See Section 803 of the Act, to be codified at 49 U.S.C. Section 40128(f)(4)(A). In making the determination as to whether a flight is a commercial air tour operation, the Act lists eight factors that the Administrator may consider. Id. at 40128(f)(4)(B). The term “tribal land” is defined in the Act as “Indian Country (as that term is defined in section 1151 of title 18 of the U.S. Code) that is within or abutting a national park.” The term “National Park” is defined in the Act as “any unit of the national park system.” All commercial air tour operations must be conducted in accordance with the following: (1) Title 49 of the U.S. Code (U.S.C.) Section 40128; (2) conditions and limitations prescribed for that operator by the FAA; and (3) any applicable air tour management plans.

The Act states that “Before commencing commercial air tour operations over a national park or tribal lands, a commercial air tour operator shall apply to the Administrator for authority to conduct the operations over the park or tribal lands.” See Section 803 of the Act, to be codified at 49 U.S.C. Section 40128(a)(2)(A). This application then triggers the process for the FAA and NPS to cooperatively develop an air tour management plan (ATMP) for that park or tribal land. the objective of the ATMP process is to “develop acceptable and effective measures to mitigate or prevent the significant adverse impacts, if any, of commercial air tour operations upon the natural and cultural resources, visitor experiences, and tribal lands.” See Section 803 of the Act, to be codified at 49 U.S.C. Section 40128(b)(1)(B).

The Act also provides that “upon application for operating authority, the Administrator shall grant interim operating authority under 49 U.S.C. section 40128(c) to a commercial air tour operator for commercial air tour operations over a national park or tribal lands for which the operator is an existing commercial air tour operator. See Section 803 of the Act to be codified at 49 U.S.C. section 40128(c)(1). Such interim operating authority is subject to a number of requirements and limitations, including a limit on the number of commercial air tour operations that may be conducted on an interim basis pending issuance of the ATMP for that park.”

In accordance with Pub. L. 106-181, the FAA and NPS have prepared a notice of proposed rulemaking proposing an altitude that will complete the definition of a “commercial air tour operation”. It can be expected that this NPRM will be issued shortly. In the meantime, to meet the mandate of the public law, the FAA and NPS publish this notice establishing the advisory group that will serve to advise and counsel the persons implementing the regulations when they are adopted.

Advisory Group Requirements of Public Law 106-181

Pub. L. 106-181 requires the establishment of the advisory group within 1 year after its enactment. the advisory group is to be comprised of a balanced group of representatives of general aviation; commercial air tour operations; environmental concerns; and Indian tribes. The Administrator and the Director (or their designees) are to serve as ex officio members of the group. Representatives of the Administrator and Director will serve alternating 1-year terms as chairman of the advisory group. The Administrator's representative will serve the first term, which will terminate at the end of the calendar year following the year in which the advisory group is established.

The advisory group will provide advice, information, and recommendations to the Administrator and the Director—

(1) On the implementation of this title [the Act] and the amendments made by this title;

(2) On commonly accepted quiet aircraft technology for use in commercial air tour operations over a national park or tribal lands, which will receive preferential treatment in a given air tour management plan;

(3) On other measures that might be taken to accommodate the interests of visitors to national parks; and

(4) At the request of the Administrator and the Director, safety, environmental, and other issues related to commercial air tour operations over a national park or tribal lands.

Members of the advisory group may be allowed certain travel expenses as authorized by section 5703 of title 5, United States Code, for intermittent Government service.

Public Participation in the Advisory Group

The FAA and NPS invite members of the public who are interested in serving on the advisory group to contact the person listed under FOR FURTHER INFORMATION CONTACT. Requests to participate should be made in writing and postmarked on or before April 12, 2001. The request should indicate whether or not they are a member or an official of a particular interest group. The request should also state whether or not they are proposing to represent air tour, conservation, or Native American interests while serving on the group. The term of service of advisory group members will be determined by the group itself once it is convened.

At this time all persons who anticipate being covered by the regulation are invited to submit their requests. Once an altitude is established the FAA will once again allow any parties who did not convey an interest because they didn't think they were within the scope of the act to indicate their interest. Membership of the advisory group will be representative of the balanced interests of overflights of national parks as enumerated by Pub. L. 106-181 discussed above. Membership will be limited in number to facilitate efficiency in advice and counsel.

Issued in Washington, DC on March 7, 2001.
L. Nicholas Lacey,
Director, Flight Standards Service.

[FR Doc. 01-6101 Filed 3-9-01; 8:45 am]

BILLING CODE 4910-13-M